ENVIRONMENTAL PROTECTION AGENCY

40 CFR Part 271

[EPA-R09-RCRA-2015-0822; FRL-9943-96-Region 9]

Nevada: Final Authorization of State Hazardous Waste Management Program Revisions

AGENCY: Environmental Protection Agency (EPA).

ACTION: Proposed rule.

SUMMARY: Nevada has applied to the Environmental Protection Agency (EPA) for final authorization of changes to its hazardous waste program under the Resource Conservation and Recovery Act (RCRA). These changes correspond to certain federal rules promulgated between July 1, 2005, and June 30, 2008 (also known as RCRA Clusters XVI through XVIII). With this proposed rule, EPA is proposing to grant final authorization to Nevada for these changes.

DATES: Send your written comments by May 9, 2016.

ADDRESSES: Submit your comments, identified by Docket ID Number EPA-R09-RCRA-2015-0822 at http://www.regulations.gov or follow the detailed instructions in the ADDRESSES section of the direct final rule which is located in the “Rules and Regulations” section of today's Federal Register.

FOR FURTHER INFORMATION CONTACT: Laurie Amaro, 75 Hawthorne Street, San Francisco, CA 94105, amaro.laurie@epa.gov, 415-972-3364.

SUPPLEMENTARY INFORMATION: Along with this proposed rule, EPA is publishing a direct final rule in the “Rules and Regulations” section of today's Federal Register pursuant to which EPA is authorizing these changes. EPA did not issue a proposed rule before today because EPA believes this action is not controversial and does not expect comments that oppose it. EPA has explained the reasons for this authorization in the direct final rule. Unless EPA receives written comments that oppose this authorization during the comment period, the direct final rule in today's Federal Register will become effective on the date it establishes, and EPA will not take further action on this proposal. If EPA receives comments that oppose this action, EPA will withdraw the direct final rule and it will not take effect. EPA will then respond to public comments in a later final rule based on this proposed rule. You may not have another opportunity to comment on these state program changes. If you want to comment on this action, you must do so at this time. For additional information, please see the direct final rule published in the “Rules and Regulations” section of today's Federal Register.

Dated: March 9, 2016.
Jared Blumenfeld,
Regional Administrator, Region 9.

[FR Doc. 2016-06437 Filed 3-22-16; 8:45 am]

BILLING CODE 6560-50-P